DEPARTMENT OF HEALTH AND HUMAN SERVICES

Centers for Disease Control and Prevention

[30Day-16-15BEZ]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

Improving Fetal Alcohol Spectrum Disorders Prevention and Practice through Practice and Implementation Centers and National Partnerships—New—National Center on Birth Defects and Developmental Disabilities (NCBDDD), Centers for Disease Control and Prevention (CDC).

Background and Brief Description

The National Center on Birth Defects and Developmental Disabilities seeks to collect training evaluation data from healthcare practitioners and staff in health systems where FASD-related practice and systems changes are implemented, and from grantees of Practice and Implementation Centers and national partner organizations related to prevention, identification, and treatment of fetal alcohol spectrum disorders (FASDs).

Prenatal exposure to alcohol is a leading preventable cause of birth defects and developmental disabilities. The term “fetal alcohol spectrum disorders” describes the full continuum of effects that can occur in an individual exposed to alcohol in utero. These effects include physical, mental, behavioral, and learning disabilities. All of these have lifelong implications.

The purpose of this program is to expand previous efforts from FASD training programs and shift the perspective from individual training for practicing healthcare professionals to one that capitalizes on prevention opportunities and the ability to impact health care practice at the systems level.

Since 2002, CDC funded FASD Regional Training Centers (RTCs) to provide education and training to healthcare professionals and students about FASD prevention, identification, and treatment. In July 2013, CDC convened an expert review panel to evaluate the effectiveness of the RTC program overall and to make recommendations about the program.

The panel highlighted several accomplishments of the RTCs and proposed several changes for future programming: (1) The panel identified a need for more comprehensive coverage nationally with discipline-specific trainings, increased use of technology, greater collaboration with medical societies, and stronger linkages with national partner organizations to increase the reach of training opportunities, and (2) The panel suggested that the training centers focus on demonstrable practice change and sustainability and place a stronger emphasis on primary prevention of FASDs. In addition, it was recommended that future initiatives have stronger evaluation components.

Based on the recommendations of the expert review panel, CDC is placing increased focus on prevention, demonstrating practice change, achieving national coverage, and strengthening partnerships between FASD Practice and Implementation Centers, or PICs (the newly redesigned RTCs), and medical societies and national partner organizations. The National Organization on Fetal Alcohol Syndrome (NOFAS) also participates in this project as a resource to the PICS and national partners. The PICs and national partners are asked to closely collaborate in discipline-specific workgroups (DSWs) and identify strategies that will increase the reach of the program on a national level. While a major focus of the grantees' work will be national, regional approaches will be used to develop new content and “test out” feasibility and acceptability of materials, especially among healthcare providers and medical societies. In addition, CDC is placing a stronger emphasis on evaluation, with both individual DSW/NOFAS evaluations and a cross-site evaluation.

CDC requests OMB approval to collect program evaluation information from (1) healthcare practitioners from disciplines targeted by each DSW, including training participants, (2) health system staff, and (3) cooperative agreement grantees over a three-year period.

• Healthcare practitioners will complete surveys to provide information on whether project trainings impacted their knowledge and practice behavior regarding FASD identification, prevention, and treatment. The information will be used to improve future trainings and assess whether knowledge and practice changes occurred. Some participants will also complete qualitative key informant interviews to gain additional information on practice change.

• Health system employees will be interviewed or complete surveys as part of projects to assess healthcare systems change, including high impact evaluation studies and DSW systems change projects. The high impact evaluation studies will be primarily qualitative assessments of two to three specific grantee efforts that seem likely to result in achievement of program objectives. The DSW systems change projects will employ online surveys to assess systems change in selected health systems across the U.S.

• Grantees will complete program evaluation forms to track perceptions of DSW collaboration and perceptions of key successes and challenges encountered by the DSW.

It is estimated that 29,573 respondents will participate in the evaluation each year, for a total estimated burden of 3790 hours annually. There are no costs to respondents other than their time.

Estimated Annualized Burden Hours
Type of respondents | Form name | Number of respondents | Number responses per respondent | Average burden per response (in hours)
Project Grantee Staff | DSW Report | 90 | 2 | 10/60
DSW Project Staff | High Impact Study: Discipline Specific Workgroup Discussion Guide for Project Staff | 10 | 2 | 60/60
Health Care System Staff | High Impact Study: Key Informant Interview—Health Care System Staff | 10 | 2 | 60/60
FASD Core Training Participants | FASD Core Training Survey—Pre-Test | 4013 | 1 | 9/60
FASD Core Training Participants | FASD Core Training Survey—Post-Test | 4013 | 1 | 5/60
FASD Core Training Participants | FASD Core Training Survey—6 Month Follow-Up | 4013 | 1 | 6/60
Nurses | Pre-Training Survey for Nursing | 667 | 1 | 9/60
Nurses | Post-Training Survey for Nursing | 550 | 1 | 9/60
Nurses | Six Month Follow-Up Training Survey for Nursing | 440 | 1 | 9/60
Nurses | Nursing DSW Polling Questions | 417 | 1 | 5/60
Nurses | Key Informant Interviews with Champions | 14 | 2 | 45/60
Nurses | Brief Questionnaire for Nursing Organization Memberships | 2,934 | 1 | 10/60
Nurses | Friends & Members of the Network Survey | 34 | 2 | 10/60
Healthcare Organization Representatives | Healthcare Organization Utilization Survey | 234 | 1 | 30/60
Physicians and students in allied health professions | OBGYN SBI Knowledge & Agency | 600 | 1 | 2/60
Physicians | OBGYN BI-MI Proficiency Rating Scale—Provider Skills Training Baseline | 600 | 1 | 3/60
Students in allied health professions | OBGYN BI-MI Proficiency Rating Scale—Standardized Patient Version | 600 | 1 | 3/60
Physicians | OBGYN BI-MI Proficiency Rating Scale—Provider Follow Up (3m & 6m) | 600 | 2 | 3/60
Physicians and students in allied health professions | OBGYN Telecom Training Satisfaction Survey | 480 | 1 | 5/60
Physicians and students in allied health professions | OBGYN Avatar Training Satisfaction Survey | 120 | 1 | 5/60
Physicians | OBGYN FASD-SBI Training Event Evaluation | 124 | 1 | 2/60
Residency Directors, Training Coordinators, Clinical Directors, Physicians | OBGYN Qualitative Key Informant Interview—Pre-Training | 34 | 1 | 25/60
Residency Directors, Training Coordinators, Clinical Directors, Physicians | OBGYN Qualitative Key Informant Interview—Post-Training | 34 | 1 | 25/60
Certified Medical Assistants and students | Medical Assistant—Pre-Test Survey | 334 | 1 | 10/60
Students | Medical Assistant—Pre-Test Survey (Academic) | 67 | 1 | 10/60
Certified Medical Assistants and students | Medical Assistant—Post-Test Survey | 334 | 1 | 10/60
Students | Medical Assistant—Post-Test Survey (Academic) | 67 | 1 | 10/60
Certified Medical Assistants and students | Medical Assistant Follow Up Survey | 200 | 1 | 10/60
Students | Medical Assistant Follow Up Survey (Academic) | 17 | 1 | 10/60
Certified Medical Assistants and students | Medical Assistants Change in Practice Survey | 250 | 1 | 15/60
Physicians | Survey of Pediatricians—Baseline and Follow Up | 534 | 2 | 10/60
Physicians | AAP Post-Training Evaluation Survey | 120 | 1 | 7/60
Physicians | AAP Pre-Training Evaluation Survey | 120 | 1 | 7/60
Physicians | AAP Three Month Follow Up Evaluation Survey | 120 | 1 | 2/60
Physicians | AAP Six Month Follow Up Evaluation Survey | 120 | 1 | 5/60
Physicians | FASD Toolkit User Survey | 50 | 1 | 15/60
Physicians | FASD Toolkit Evaluation Focus Group/Guided Interview | 10 | 1 | 30/60
Physicians | Pediatric FASD Regional Education and Awareness Liaisons Work Plan | 10 | 1 | 20/60
Physicians | Pediatric FASD Regional Liaison/Champion Training Session Evaluation | 10 | 1 | 4/60
Physicians | Family Medicine Evaluation Questions Addendum for Practice or Individual Provider | 62 | 1 | 8/60
Practicing family physicians, family physician faculty, residents, social workers, social work students | Social Work and Family Physicians Pre-training Survey | 1167 | 1 | 8/60
Practicing family physicians, family physician faculty, residents, social workers, social work students | Social Work and Family Physicians Post-training Survey | 1167 | 1 | 5/60
Practicing family physicians, family physician faculty, residents, social workers, social work students | Social Work and Family Physicians 6-Month Follow Up Survey | 1167 | 1 | 8/60
NOFAS webinar attendees | NOFAS Webinar Survey | 601 | 1 | 2/60
NOFAS webinar attendees | NOFAS Three Month Follow-Up Webinar Questionnaire | 601 | 1 | 2/60
NOFAS training participants | NOFAS Pre-Test Survey | 551 | 1 | 3/60
NOFAS training participants | NOFAS Post-Test Survey | 551 | 1 | 3/60
Systems change project participants | Clinical Process Improvement Survey | 246 | 2 | 10/60
Systems change project participants | TCU Organizational Readiness Survey | 246 | 2 | 10/60
Systems change project participants | Organizational Readiness to Change Assessment | 220 | 2 | 10/60

Leroy A. Richardson,
Chief, Information Collection Review Office, Office of Scientific Integrity, Office of the Associate Director for Science, Office of the Director, Centers for Disease Control and Prevention.

[FR Doc. 2016-05073 Filed 3-4-16; 8:45 am]

BILLING CODE 4163-18-P